DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a Locally Administered federal aid project (RPSTPLE 5914 (042) and (043)) being carried out by Lake County with NEPA oversight being conducted by the State of California. The project takes place in Lake County, immediately adjacent to the town of Lakeport on South Main Street and Soda Bay Rd. Those actions grant licenses, permits, and approvals for the project.

DATES: By this notice, the FHWA, on behalf of Caltrans, is advising the public of final agency actions subject to 23 U.S.C. 139(l)(1). A claim seeking judicial review of the Federal agency actions on the highway project will be barred unless the claim is filed on or before September 16, 2013. If the Federal law that authorizes judicial review of a claim provides a time period of less than 150 days for filing such claim, then that shorter time period still applies.

FOR FURTHER INFORMATION CONTACT: For Caltrans: Brandon Larsen, Senior Environmental Planner Office of Local Assistance, telephone (707) 445-6410, email Brandon_Larsen@dot.ca.gov. For Lake County: Lars Ewing, Assistant Public Works Director, telephone (707) 263-2341, email Lars.Ewing@lakecountyca.gov.

SUPPLEMENTARY INFORMATION: Effective July 1, 2007, the Federal Highway Administration (FHWA) assigned, and the California Department of Transportation (Caltrans) assumed environmental responsibilities for this project pursuant to 23 U.S.C. 327. Notice is hereby given that the Caltrans, has taken final agency actions subject to 23 U.S.C. 139(l)(1) by issuing licenses, permits, and approvals for the following locally administered project in the State of California: The federal aid project is RPSTPLE 5914 (042) and (043). The Lake County Department of Public Works (DPW) proposes to add a center turning lane, construct Class II bicycle lanes, underground overhead utility lines, and improve utility infrastructure on South Main Street and Soda Bay Road in the Lakeport area of Lake County, California. The South Main Street and Soda Bay Road Widening and Bike Lanes Project consists of a 0.5-mile segment of South Main Street, from the Lakeport city limits to the State Route (SR) 175 extension, and a 0.75-mile segment of Soda Bay Road extending south from SR 175 to approximately 0.1 mile west of Manning Creek.

The goal of the project is to improve traffic flow and pedestrian safety along South Main Street and Soda Bay Road. The actions by the Federal agencies, and the laws under which such actions were taken, are described in the Final Environmental Assessment (FEA) for the project, approved on 12/19/12, in the FHWA Finding Of No Significant Impact (FONSI) issued on 02/05/13, and in other documents in the FHWA project records. The FEA, FONSI, and other project records are available by contacting Caltrans at the addresses provided above.

This notice applies to all Federal agency decisions as of the issuance date of this notice and all laws under which such actions were taken, including but not limited to:

1. National Environmental Policy Act (NEPA)

2. Section 106 of the National Historic Preservation Act

3. Endangered Species Act

4. Civil Rights Act

5. E.O. 11990 Protection of Wetlands

6. E.O. 11988 Floodplain Management

7. E.O. 12898 Federal Actions to Address Environmental Justice in Minority Populations and Low Income Populations

8. Comprehensive Environmental Response, Compensation, and Liability Act (CERCLA)

9. Resource Conservation and Recovery Act (RCRA)

(Catalog of Federal Domestic Assistance Program Number 20.205, Highway Planning and Construction. The regulations implementing Executive Order 12372 regarding intergovernmental consultation on Federal programs and activities apply to this program.)

Authority: 23 U.S.C. 139(l)(1).

Issued on: April 11, 2013.
Gary Sweeten,
Team Leader, Local Programs, Federal Highway Administration, Sacramento, California.

[FR Doc. 2013-09007 Filed 4-18-13; 8:45 am]

BILLING CODE 4910-RY-P